DEPARTMENT OF TRANSPORTATION

Office of the Secretary of Transportation

[Docket No. DOT-OST-2017-0034]

Agency Information Collection Activities and Request for Comments; Extension of an Approved Information Collection: Transportation Infrastructure Financing and Innovation Act (TIFIA) Program

AGENCY: Office of the Secretary of Transportation (OST), DOT.

ACTION: Notice and request for comments.

SUMMARY: In accordance with the requirements of the Paperwork Reduction Act of 1995, OST invites public comments on a request to the Office of Management and Budget (OMB) to renew an Information Collection Request (ICR). The ICR is used to allow entities to apply for TIFIA credit assistance and assists the DOT in evaluating projects and project sponsors for program eligibility and creditworthiness.

DATES: We must receive your comments on or before May 23, 2017.

ADDRESSES: All comments should reference Federal Docket Management System (FDMS) Docket No. DOT-OST-2017-0034. Interested persons are invited to submit written comments on the proposed information collection through one of the following methods:

• Federal eRulemaking Portal: http://www.regulations.gov. Follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: The TIFIA program manager via email at TIFIACredit@dot.gov.

SUPPLEMENTARY INFORMATION:

Title: Transportation Infrastructure Financing and Innovation Act program or TIFIA program.

OMB Control Number: 2105-0569.

Type of Request: Extension of a currently approved collection.

Respondents: State and local governments, transit agencies, railroad companies, special authorities, special districts, and private entities.

Estimated Total Annual Number of Respondents: 50 letters of interest and 50 applications.

Estimated Total Annual Burden Hours: 6,000 hours. Based on the number and type of interested stakeholders that have contacted the Department about this program, OST estimates that it will receive fifty (50) applications and fifty (50) letters of interest and that it will generally not take applicants more than 100 person-hours to assemble individual applications and 20 person-hours to assemble individual letters of interest. Therefore, the total annual hour burden of this collection of applications is 6,000 hours.

Frequency of Collection: The Department expects that this information collection will occur on a rolling basis as interested entities seek TIFIA credit assistance.

Background: This is an existing information collection that was originally approved through the emergency approval process on August 7, 2013. DOT will use the collected information to evaluate and select recipients for credit assistance. Applicants may be asked to provide additional supporting evidence or to quantify details during the review and negotiation process on a case-by-case basis, but completion of the letter of interest and application.

The application process required of 23 U.S.C. 602(a)(1)(A) begins with the submission of a letter of interest (LOI). Only after a project sponsor has submitted an LOI demonstrating satisfaction of all statutory eligibility requirements can the project sponsor be invited to submit an application. The LOI must describe the project, outline the proposed financial plan, provide a status of environmental review, and provide information regarding satisfaction of other eligibility requirements of the TIFIA credit program, in each case as indicated on the LOI form located on the Build America Bureau's TIFIA Web page: https://www.transportation.gov/buildamerica/programs-services/tifia/applications. DOT estimates that the letter of interest would require approximately 20 hours in each instance to complete.

If TIFIA determines that a project sponsor has satisfied the eligibility requirements described in 23 U.S.C. 602(a), TIFIA may invite the project sponsor to submit an application. The information that DOT seeks through the application includes: Contact information; project information, project purpose, cost, TIFIA credit assistance request, satisfaction of eligibility requirements, including creditworthiness, a financial plan, details of the applicant's organizational structure, and such other information as is indicated on the application form located on the Build America's TIFIA Web page at: https://www.transportation.gov/buildamerica/programs-services/tifia/applications. DOT estimates that each application will require approximately 100 hours to complete.

Issued in Washington, DC, on March 20, 2017.
Claire Barrett,
Departmental Chief Privacy & Information Governance Officer.

[FR Doc. 2017-05828 Filed 3-23-17; 8:45 am]

BILLING CODE 4910-22-P